DEPARTMENT OF COMMERCE

International Trade Administration

Announcement of Approved International Trade Administration Trade Mission

AGENCY: International Trade Administration, Department of Commerce.

SUMMARY: The United States Department of Commerce, International Trade Administration (ITA), is announcing one upcoming trade mission that will be recruited, organized, and implemented by ITA. This mission is: Global Diversity Export Initiative (GDEI) Education Trade Mission to South India—February 12-20, 2024. A summary of the mission is found below. Application information and more detailed mission information, including the commercial setting and sector information, can be found at the trade mission website: https://www.trade.gov/trade-missions. For each mission, recruitment will be conducted in an open and public manner, including publication in the Federal Register, posting on the Commerce Department trade mission calendar (https://www.trade.gov/trade-missions-schedule) and other internet websites, press releases to general and trade media, direct mail, broadcast fax, notices by industry trade associations and other multiplier groups, and publicity at industry meetings, symposia, conferences, and trade shows.

FOR FURTHER INFORMATION CONTACT: Jeffrey Odum, Events Management Task Force, International Trade Administration, U.S. Department of Commerce, 1401 Constitution Avenue NW, Washington DC 20230; telephone: (202) 482-6397 or email Jeffrey.Odum@trade.gov.

SUPPLEMENTARY INFORMATION:

The Following Conditions for Participation Will Be Used for the Mission

Applicants must submit a completed and signed mission application and supplemental application materials, including adequate information on their products and/or services, primary market objectives, and goals for participation. If the Department of Commerce receives an incomplete application, the Department may either: reject the application, request additional information/clarification, or take the lack of information into account when evaluating the application. If the requisite minimum number of participants is not selected for a particular mission by the recruitment deadline, the mission may be canceled.

Each applicant must also certify that programs and services it seeks to export through the mission are either produced in the United States, or, if not, are marketed under the name of a U.S. institution and have at least 51% U.S. content by value. In the case of a trade association or organization, the applicant must certify that, for each institution or service provider to be represented by the association/organization, the products and/or services the represented institution or service provider seeks to export are either produced in the United States or, if not, marketed under the name of a U.S. institution and have at least 51% U.S. content by value.

A Study State Consortia or other government education stakeholder applicant must certify to the above for all of the institutions it seeks to represent on the mission.

In addition, each applicant must:

• Certify that the products and services that it wishes to market through the mission would be in compliance with U.S. export controls and regulations.

• Certify that it has identified any matter pending before any bureau or office in the Department of Commerce.

• Certify that it has identified any pending litigation (including any administrative proceedings) to which it is a party that involves the Department of Commerce; and

• Sign and submit an agreement that it and its affiliates (1) have not and will not engage in the bribery of foreign officials in connection with an institution's/participant's involvement in this mission, and (2) maintain and enforce a policy that prohibits the bribery of foreign officials.

In the case of a Study State Consortia or other government education stakeholder, the applicant must certify that each institution or service provider to be represented by the association/organization can make the above certifications.

The Following Selection Criteria Will Be Used for the Mission

Targeted mission participants are appropriately accredited U.S. educational institutions, services providers, Study State Consortia, and other government education stakeholders providing or promoting U.S. programs and services that have an interest in entering or expanding their business in the mission's destination country. The following criteria will be evaluated in selecting participants:

• Suitability of the applicant's (or in the case of a Study State Consortia or other government education stakeholder, represented institution's or service provider's) programs or services to these markets.

• The applicant's (or in the case of a Study State Consortia or other government education stakeholder, represented institution's or service provider's) potential for business in the markets, including the likelihood of exports resulting from the mission; and

• Consistency of the applicant's (or in the case of a Study State Consortia or other government education stakeholder, represented institution's or service provider's) goals and objectives with the stated scope of the mission.

Balance of institution size and location may also be considered during the review process.

Referrals from a political party or partisan political group or any information, including on the application, containing references to political contributions or other partisan political activities will be excluded from the application and will not be considered during the selection process. The sender will be notified of these exclusions.

Mission List: (additional information about trade missions can be found at https://www.trade.gov/trade-missions).

GDEI Education Trade Mission to South India—February 12-20, 2024

Summary

The U.S. Department of Commerce, International Trade Administration, U.S. Commercial Service in India, in collaboration with the U. S. Department of State, EducationUSA Chennai Advising Center in India, is organizing an Education Trade Mission to promote U.S. higher education in Bengaluru and four southern Indian secondary markets—Mangaluru, Manipal, Kochi, and Coimbatore from February 12-20, 2024. This mission will target U.S. Higher Educational Institutions (HEIs) offering graduate programs and which are New-to-Export (NTE) or New-to-Market (NTM), such as Historically Black Colleges and Universities (HBCUs) and Minority Serving Institutions (MSIs), Study State Consortia (composed of colleges and universities, community programs, and similar entities representing education within U.S. states) and other government education stakeholders (e.g., Governor's offices, state trade offices, economic development organizations, etc.) that are interested in connecting with local Higher Education Institutes (HEIs), and educational consultants, and will assist in recruiting Indian students from these markets to the United States. The mission will include Consulate and industry market briefings, one-on-one appointments with potential partners, and student fairs in Bengaluru, Mangaluru, Manipal, Kochi, and Coimbatore.

Recruitment and consideration will be extended to all export-ready institutions, Study State Consortia, and other government educational stakeholders that meet the established criteria for participation in the mission. ITA is seeking to improve outreach to HEIs that have not previously participated in GDEI Education Trade Missions and/or have not previously engaged in fulsome international graduate recruiting. This mission is in alignment with Executive Order 13985 on Advancing Racial Equity and Support for Underserved Communities Through the Federal Government (January 25, 2021) (E.O. 13985), the U.S. Department of Commerce Equity Action Plan, and the Global Diversity Export Initiative of the U.S. Commercial Service. For the purposes of the trade mission, ITA adopts the definition of “underserved communities” in E.O. 13985: “populations sharing a particular characteristic, as well as geographic communities, that have been systematically denied a full opportunity to participate in aspects of economic, social, and civic life, as exemplified by the list in the preceding definition of `equity.' ” “Equity” is defined by E.O. 13985 as “the consistent and systematic fair, just, and impartial treatment of all individuals, including individuals who belong to underserved communities that have been denied such treatment, such as Black, Latino, and Indigenous and Native American persons, Asian Americans and Pacific Islanders and other persons of color; members of religious minorities; lesbian, gay, bisexual, transgender, and queer (LGBTQ+) persons; persons with disabilities; persons who live in rural areas; and persons otherwise adversely affected by persistent poverty or inequality.” This trade mission is also designed to be responsive to the priorities stated by Secretary of Commerce Gina Raimondo and outlined in the Equity Action Plan released in April 2022 which includes “[s]trengthen[ing] small businesses in underserved communities by helping them be successful exporters”.

The goals of the Education Trade Mission to South India are:

(1) Gain market exposure and introduce participants to the vibrant South India market. U.S. educational institutions will find potential partners in Bengaluru and four secondary markets—Mangaluru, Manipal, Kochi and Coimbatore—covering three Indian states in South India.

(2) Assess current and future business prospects by establishing valuable contacts with prospective study-abroad consultants, potential students, and educational institutions.

(3) Develop market knowledge and relationships leading to effective student recruitment, strategies, and potential partnerships.

During the mission, the delegation will be guided by Commercial Service officers, commercial specialists, and EducationUSA advisors at each stop. Trade mission participants who are already doing business in India will have the opportunity to further advance their business relationships and explore new opportunities.

Participation in the mission will include the following:

• Pre-travel briefings;

• Market briefings by U.S. Consulate, Local Government officials and industry leaders;

• Pre-scheduled meetings with university heads/counselors, educational consultants;

• Student fairs in Bengaluru, Mangaluru, Manipal, Kochi, and Coimbatore;

• Airport transfers and ground transportation in these cities; and

• University visits in all five stops.

The final schedule will depend on the specific goals and objectives of the mission participants.

Proposed Timetable

* Note: The final schedule and potential site visits will depend on the availability of host government and business officials, specific goals of mission participants, and ground transportation.

February 11 | Travel Day/Arrival in Bengaluru.
February 12 | • Briefings. • One-on-one matchmaking meetings. • Student fair.
February 13 | • Half day visit to a university for institutional collaboration and meet with students interested in studying in the U.S. • Late afternoon departure for Mangaluru by air. • Remain overnight in Mangaluru.
February 14 | • Morning visit to Manipal Academy of Higher Education (located near Mangaluru) by bus. • Prescheduled meetings with institutional leadership. • Student fair. • Return to Mangaluru.
February 15 | • Market briefings. • Visit to HEIs for one-on-one meetings and meet with students interested in studying in the U.S. • Late afternoon depart for Kochi by air.
February 16 | • Market briefings. • Student fair in Kochi.
February 17 | • Visit to HEIs for one-on-one meetings and meet with students interested in studying in the U.S.
February 18 | • Sunday—Travel Day. Depart Kochi for Coimbatore by bus. On the way stop at Palghat Indian Institute of Technology (TBD). • Remain overnight in Coimbatore.
February 19 Note: President's Day in the U.S | • Briefings. • One-on-one matchmaking meetings. • Student fair.
February 20 | • Visit to local HEIs for institutional partnerships and meet with students interested in studying in the U.S. • End of Program. • Depart Coimbatore at leisure (per delegate's individual travel itinerary).

Participation Requirements

All parties interested in participating in the U.S. Department of Commerce Education Trade Mission to South India must complete and submit an application package for consideration by the Department of Commerce. All applicants will be evaluated on their ability to meet certain conditions and best satisfy the selection criteria as outlined below.

A minimum of 18 and a maximum of 20 educational institutions, Study State Consortia, and/or other government education stakeholders (e.g., Governor's offices, state trade offices, economic development organizations, etc.) will be selected to participate in the mission from the applicant pool. The Trade Mission is open to U.S. HEIs that are new-to-market and educational institutions with existing business in India who are seeking to expand their market share.

Fees and Expenses

After an educational institution, Study State Consortia, or other government education stakeholders (e.g., Governor's offices, state trade offices, economic development organizations, etc.) has been selected to participate in the trade mission, a payment to the Department of Commerce in the form of a participation fee is required.

The participation fee for the Education Trade Mission to South India will be $5,500 for public/private, non-profit institution or small or medium-sized enterprise (SME)*; and $7,000 for large, private for-profit institution. The fee for additional institution representative (large private for-profit institution or private/public non-profit institution or SME/trade organization) is $750. Expenses for travel, lodging, meals, and incidentals will be the responsibility of each mission participant. Interpreter and driver services can be arranged for additional cost. Delegation members will be able to take advantage of U.S. Embassy rates for hotel rooms.

The mission registration fee includes market briefings, lunch and coffee breaks during the conference and transportation associated to visit local HEIs, participation in student fairs, and U.S. Consulate Chennai officers' consultations.

When an applicant is selected to participate on a particular mission, a payment to the Department of Commerce in the amount of the designated participation fee below is required. Upon notification of acceptance to participate, those selected have 5 business days to submit payment or the acceptance may be revoked.

Participants selected for a trade mission will be expected to pay for the cost of personal expenses, including, but not limited to, international travel, lodging, meals, transportation, communication, and incidentals, unless otherwise noted. Participants will, however, be able to take advantage of U.S. Government rates for hotel rooms. If a mission is canceled, no personal expenses paid in anticipation of a mission will be reimbursed. However, participation fees for a canceled mission will be reimbursed to the extent they have not already been expended in anticipation of the mission.

If a visa is required to travel on a particular mission, applying for and obtaining such a visa will be the responsibility of the mission participant. Government fees and processing expenses to obtain such a visa are not included in the participation fee. However, the Department of Commerce will provide instructions to each participant on the procedures required to obtain business visas.

Trade Mission members participate in trade missions and undertake mission-related travel at their own risk. The nature of the security situation in each foreign market at a given time cannot be guaranteed. The U.S. Government does not make any representations or guarantees as to the safety or security of participants. The U.S. Department of State issues U.S. Government international travel alerts and warnings for U.S. citizens available at https://travel.state.gov/content/passports/en/alertswarnings.html. Any question regarding insurance coverage must be resolved by the participant and its insurer of choice.

Travel and in-person activities are contingent upon the safety and health conditions in the United States and the mission countries. Should safety or health conditions not be appropriate for travel and/or in-person activities, the Department will consider postponing the event or offering a virtual program in lieu of an in-person agenda. In the event of a postponement, the Department will notify the public and applicants previously selected to participate in this mission will need to confirm their availability but need not reapply. Should the decision be made to organize a virtual program, the Department will adjust fees accordingly, prepare an agenda for virtual activities, and notify the previously selected applicants with the option to opt-in to the new virtual program.

Timeframe for Recruitment and Applications

Mission recruitment will be conducted in an open and public manner, including publication in the Federal Register, posting on the Commerce Department trade mission calendar on www.trade.gov, and other internet websites, press releases to the general and trade media, direct mail and broadcast fax, notices by industry trade associations and other multiplier groups and announcements at industry meetings, symposia, conferences, and trade shows.

Recruitment for the mission will begin immediately and conclude no later than December 15, 2023. The U.S. Department of Commerce will review applications and make selection decisions on a rolling basis until the maximum of 20 participants are selected. After, educational institutions will be considered only if space and scheduling constraints permit.

Contacts

Gabriel Zelaya, Global Education Team Leader, U.S. Commercial Service—San Jose/Silicon Valley, U.S. Department of Commerce, Gabriela.Zelaya@trade.gov, Tel: 408-335-9202

Pinki Thakker, International Trade Specialist, U.S. Commercial Service—Kansas City, MO, U.S. Department of Commerce, Pinki.Thakker@trade.gov, Tel: 816-266-3853

Carey Arun, Principal Commercial Officer, U.S. Commercial Service—U.S. Consulate General, Chennai, Caey.Arun@trade.gov

Mala Venkat, Senior Commercial Specialist, U.S. Commercial Service—U.S. Consulate General, Chennai, Mala.Venkat@trade.gov

Gemal Brangman,
Director, Trade Events Management Task Force.

[FR Doc. 2023-21170 Filed 9-27-23; 8:45 am]

BILLING CODE 3510-DR-P